DEPARTMENT OF TRANSPORTATION

Federal Highway Administration

[Docket No. FHWA-2010-0093]

Agency Information Collection Activities: Notice of Request for Extension of Currently Approved Information Collection

AGENCY: Federal Highway Administration (FHWA), DOT.

ACTION: Notice of request for extension of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by November 29, 2010.

ADDRESSES: You may submit comments identified by DOT Docket ID Number 2010-0093 by any of the following methods:

Web site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Jon Obenberger, 202-366-2221, Office of Infrastructure, Federal Highway Administration, Department of Transportation, 1200 New Jersey Avenue, SE., Washington, DC 20590, Monday through Friday, except Federal holidays.

SUPPLEMENTARY INFORMATION: Title: Utility Adjustments, Agreements, Eligibility Statements and Accommodation Policies. (Formerly: Developing and Recording Costs for Utility Adjustments).

OMB Control Number: 2125-0519.

Background: Federal laws dealing with the relocation and accommodation of utility facilities associated with the right-of-way of highway facilities are contained in the United States Code (U.S.C.) 23, Sections 123 and 109(I)(1). Regulations dealing with the utility facility accommodation and relocation are based upon the laws contained in 23 U.S.C. and are found in the Code of Federal Regulations (CFR), title 23, chapter I, subchapter G, part 645, subparts A and B.

Collection #1: Developing and Recording Costs for Utility Adjustments

The FHWA requires utility companies to document costs or expenses for adjusting their facilities (23 CFR 645 subpart A—Utility Relocations, Adjustments, and Reimbursement). These utility companies must have a system for recording labor, materials, supplies and equipment costs incurred when undertaking adjustments to accommodate highway projects. This record of costs forms the basis for payment by the SDOT or local transportation department to the utility company. In turn, the FHWA reimburses the SDOT or local transportation department for its payment to the utility company. The utility company is required to maintain these records of costs for 3 years after final payment is received.

Respondents: 3,000 Utility Firms.

Frequency: Annually.

Estimated Annual Burden: The FHWA estimates that this collection imposes a total annual burden of 24,000 hours. Utility adjustments are made yearly by approximately 3,000 utility firms. The average amount of time required by these firms to calculate the adjustment costs and maintain the required records is estimated at 8 hours for each adjustment.

Collection #2: Utility Use and Occupancy Agreements

The SDOT and/or local agency transportation departments are responsible for maintaining the highway rights-of-way, including the control of its use by the utility companies. In managing the use of the highway rights-of-way, the SDOT and/or local agency transportation department is required (23 CFR 645.205 and 23 CFR 645.213) to document the terms under which utility facilities are allowed to cross or otherwise occupy the highway rights-of-way, in the form of utility use and occupancy agreements with each utility company. This documentation, consisting of a use and occupancy agreement (permit), must be in writing and must be maintained in the SDOT and/or local agency transportation department.

Respondents: 4,600 State/local highway authorities.

Frequency: There are 15 agreements per year.

Estimated Annual Burden: The estimated amount of time required by the State/local highway authorities to process the permits is 8 hours. The FHWA estimates that the total annual burden imposed on the public by this collection is 552,000 hours.

Collection #3: Eligibility Statement for Utility Adjustments

Each SDOT is required (23 CFR 615.215) to submit to the FHWA a utility adjustment eligibility statement that establishes the SDOT legal authority and policies it employs for accommodating utilities within highway right-of-ways or obligation to pay for utility adjustments. FHWA has previously reviewed and approved these eligibility statements for each State DOT. The statements are used as a basis for Federal-aid reimbursement in utility relocation costs under the provisions of 23 U.S.C. 123. Updated statements may be submitted for review at the States discretion where circumstances have modified (for example, a change in State statute) the extent to which utility adjustments are eligible for reimbursement by the State or those instances where a local SDOT's legal basis for payment of utility adjustments differs from that of the State.

Respondents: 52 State Transportation Departments, including the District of Columbia and Puerto Rico.

Frequency: Updates for review, as required at the States' discretion.

Estimated Annual Burden: The average burden for preparing and submitting an updated eligibility statement is 18 hours per response. The estimated total annual burden, based upon 5 updated eligibility statements per year, is 90 hours.

Collection #4: Develop and Submit Utility Accommodation Policies

Each SDOT is also required (23 CFR 645.215) to develop and submit to FHWA their utility accommodation policies that will be used to regulate and manage the utility facilities within the rights-of-way of Federal-aid highway projects. The agencies utility accommodation policies need to address the basis for utility facilities to use and occupy highway right-of-ways; the State's authority to regulate such use; and the policies and/or procedures employed for managing and accommodating utilities within the right-of-ways of Federal-aid highway projects. Upon FHWA's approval of the policy statement, the SDOT may take any action required in accordance with the approved policy statement without a case-by-case review by the FHWA.

Respondents: 52 State Transportation Departments, including the District of Columbia and Puerto Rico.

Frequency: Updates for review, as required at the States' discretion.

Estimated Annual Burden: The average burden for updating an existing policy is 280 hours per response. The estimated total annual burden, based upon an estimated 5 updates per year, is 1,400 hours.

The accumulated annual burden for the combined information collection is 577,490.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: September 22, 2010.
Juli Huynh,
Chief, Management Programs and Analysis Division.

[FR Doc. 2010-24276 Filed 9-27-10; 8:45 am]

BILLING CODE 4910-22-P